DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2012 Economic Census Covering the Wholesale Trade Sector.

Form Number(s): Various.

OMB Control Number: 0607-0929.

Type of Request: Reinstatement, with change, of an expired collection.

Burden Hours: 675,000 in FY 2013.

Number of Respondents: 450,000.

Average Hours per Response: 1.5 hours.

Needs and Uses: The 2012 Economic Census covering the Wholesale Trade sector will use a mail canvass, supplemented by data from Federal administrative records, to measure the economic activity of more than 450,000 wholesale establishments classified in the North American Industry Classification System (NAICS).

The Wholesale Trade sector comprises establishments engaged in wholesaling merchandise, generally without transformation, and rendering services incidental to the sale of merchandise. Wholesalers are organized to sell or arrange the purchase or sale of (a) goods for resale (i.e., goods sold to other wholesalers or retailers), (b) capital or durable nonconsumer goods, and (c) raw and intermediate materials and supplies used in production. The economic census will produce basic statistics by kind of business on number of establishments, sales, payroll, employment, inventories, and operating expenses. It also will yield a variety of subject statistics, including sales by product line; sales by class of customer; employment by primary function; measures of gross margin and gross profit; and other industry-specific measures, such as bulk storage capacity by type of facility for petroleum bulk stations and terminals. Basic statistics will be summarized for the United States, states, metropolitan areas, counties, and places. Tabulations of subject statistics also will present data for the United States and, in some cases, for states.

The economic census is the primary source of facts about the structure and functioning of the Nation's economy and features unique industry and geographic detail. Economic census statistics serve as part of the framework for the national accounts and provide essential information for government, business, and the general public. The Federal Government uses information from the economic census as an important part of the framework for the national income and product accounts, input-output tables, economic indexes, and other composite measures that serve as the factual basis for economic policy-making, planning, and program administration.

Further, the census provides sampling frames and benchmarks for current surveys of business which track short-term economic trends, serve as economic indicators, and contribute critical source data for current estimates of gross domestic product. State and local governments rely on the economic census as a unique source of comprehensive economic statistics for small geographic areas for use in policy-making, planning, and program administration. Finally, industry, business, academe, and the general public use information from the economic census for evaluating markets, preparing business plans, making business decisions, developing economic models and forecasts, conducting economic research, and establishing benchmarks for their own sample surveys.

If the economic census was not conducted, the Federal Government would lose vital source data and benchmarks for the national accounts, input-output tables, and other composite measures of economic activity, causing a substantial degradation in the quality of these important statistics. Further, the government would lose critical benchmarks for current sample-based economic surveys and an essential source of detailed, comprehensive economic information for use in policy-making, planning, and program administration.

Affected Public: Business or other for-profit; Not-for-profit institutions.

Frequency: Every 5 years.

Respondent's Obligation: Mandatory.

Legal Authority: Title 13 U.S.C., Sections 131 and 224.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: July 12, 2011.
Glenna Mickelson,
Management Analyst, Office of the Chief Information Officer.

[FR Doc. 2011-17849 Filed 7-14-11; 8:45 am]

BILLING CODE 3510-07-P